INTERNATIONAL TRADE COMMISSION

[Investigation No. 332-463]

Logistic Services: An Overview of the Global Market and Potential Effects of Removing Trade Impediments

AGENCY: International Trade Commission.

ACTION: Institution of investigation and scheduling of public hearing.

EFFECTIVE DATE: August 27, 2004.

SUMMARY: Following receipt of a request on August 6, 2004 from the United States Trade Representative (USTR), the Commission instituted investigation No. 332-463, Logistic Services: An Overview of the Global Market and Potential Effects of Removing Trade Impediments, under section 332(g) of the Tariff Act of 1930 (19 U.S.C. 1332(g)).

FOR FURTHER INFORMATION CONTACT: Information specific to this investigation may be obtained from Michael Nunes, Project Leader (202-205-3462; michael.nunes@usitc.gov), Amanda Horan, Deputy Project Leader, (202-205-3459; amanda.horan@usitc.gov), or Richard Brown, Chief, Services and Investment Division (202-205-3438; richard.brown@usitc.gov), Office of Industries, U.S. International Trade Commission, Washington, DC 20436. Media should contact Peg O'Laughlin, Public Affairs Officer (202-205-1819; margaret.olaughlin@usitc.gov). For information on the legal aspects of this investigation, contact William Gearhart of the Office of the General Counsel (202-205-3091; willam.gearhart@usitc.gov). Hearing impaired individuals are advised that information on this matter can be obtained by contacting the TDD terminal on (202)-205-1810.

SUPPLEMENTARY INFORMATION: Background: In his request letter, the USTR noted that the globalization of manufacturing and electronic commerce have increased demand for logistic services, which involve planning, implementing, managing, and controlling the flow and storage of goods, services, and related services from the point of origin to the point of consumption. As requested by USTR, the Commission's report will focus on foreign logistic services markets and their relationship to trade. The report will, to the extent possible: (1) Provide an overview of the global logistic services market, including major industry players, factors driving growth, and industry operations; (2) examine trade and investment in selected regional logistic service markets, including impediments to the provision of international logistic services, if any; and (3) discuss and, to the extent possible, analyze the potential effects of removing impediments to logistic services on trade and economic welfare.

The USTR asked that the Commission furnish its report by May 6, 2005, and that the Commission make the report available to the public in its entirety.

Public Hearing: A public hearing in connection with the investigation will be held at the U.S. International Trade Commission Building, 500 E Street SW., Washington, DC, beginning at 9:30 a.m. on November 18, 2004. All persons shall have the right to appear, by counsel or in person, to present information and to be heard. Requests to appear at the public hearing should be filed with the Secretary, United States International Trade Commission, 500 E Street SW., Washington, DC 20436, no later than 5:15 p.m., November 4, 2004. Any prehearing briefs (original and 14 copies) should be filed not later than 5:15 p.m., November 8, 2004; the deadline for filing post-hearing briefs or statements is 5:15 p.m., December 14, 2004. In the event that, as of the close of business on November 4, 2004, no witnesses are scheduled to appear at the hearing, the hearing will be canceled. Any persons interested in attending the hearing as an observer or non-participant may call the Secretary to the Commission (202-205-1806) after November 4, 2004, for information concerning whether the hearing will be held.

Written Submissions: In lieu of or in addition to participating in the hearing, interested parties are invited to submit written statements (original and 14 copies) concerning the matters to be addressed by the Commission in its report on this investigation. Commercial or financial information that a submitter desires the Commission to treat as confidential must be submitted on separate sheets of paper, each clearly marked “Confidential Business Information” at the top. All submissions requesting confidential treatment must conform with the requirements of § 201.6 of the Commission's Rules of Practice and Procedure (19 CFR 201.6). All written submissions, except for confidential business information, will be made available in the Office of the Secretary to the Commission for inspection by interested parties. The Commission will not include any confidential business information in the report it sends to the USTR. To be assured of consideration by the Commission, written statements relating to the Commission's report should be submitted to the Commission at the earliest practical date and should be received no later than the close of business on December 14, 2004. All submissions should be addressed to the Secretary, United States International Trade Commission, 500 E Street SW., Washington, DC 20436. The Commission's rules do not authorize filing submissions with the Secretary by facsimile or electronic means, except to the extent permitted by section 201.8 of the Commission's Rules of Practice and Procedure (19 CFR 201.8) (see Handbook for Electronic Filing Procedures, ftp://ftp.usitc.gov/pub/reports/electronic_filing_handbook.pdf). Persons with questions regarding electronic filing should contact the Secretary (202-205-2000; edis@usitc.gov).

Persons with mobility impairments who will need special assistance in gaining access to the Commission should contact the Office of the Secretary at 202-205-2000. General information concerning the Commission may also be obtained by accessing its Internet server (http://www.usitc.gov).

List of Subjects

WTO, GATS, Logistic services, Transportation services, Maritime services, Air transport services, Courier services, Express delivery services.

By order of the Commission.
Issued: August 27, 2004.
Marilyn R. Abbott,
Secretary to the Commission.

[FR Doc. 04-19998 Filed 9-1-04; 8:45 am]

BILLING CODE 7020-02-P